ENVIRONMENTAL PROTECTION AGENCY

[ER-FRL-9029-6]

Environmental Impact Statements; Notice of Availability

Responsible Agency: Office of Federal Activities, General Information (202) 564-7146 or http://www.epa.gov/nepa.

Weekly receipt of Environmental Impact Statements (EISs)

Filed 10/03/2016 Through 10/07/2016

Pursuant to 40 CFR 1506.9.

Notice

Section 309(a) of the Clean Air Act requires that EPA make public its comments on EISs issued by other Federal agencies. EPA's comment letters on EISs are available at: http://www.epa.gov/compliance/nepa/eisdata.html.

EIS No. 20160231, Draft, FTA, IL, Chicago Red Line Extension, Comment Period Ends: 11/30/2016, Contact: Mark Assam 312-353-4070.

EIS No. 20160232, Final, NPS, BR, AZ, Long-Term Experimental and Management Plan (LTEMP) for the Operation of Glen Canyon Dam, Review Period Ends: 11/14/2016, Contact: Katrina Grantz 801-524-3635.

The U.S. Department of the Interior's Bureau of Reclamation and the Department of the Interior's National Park Service are joint lead agencies for the above project.

EIS No. 20160233, Final, USMC, CA, Santa Margarita River Conjunctive Use Project, Review Period Ends: 11/14/2016, Contact: Kristin Thomas 760-725-9741.

The U.S. Marine Corps and the U.S. Department of the Interior's Bureau of Reclamation are joint lead agencies of the above project.

EIS No. 20160234, Draft, DOC, PRO, Programmatic—South Region of the Nationwide Public Safety Broadband Network, Comment Period Ends: 12/12/2016, Contact: Genevieve Walker 571-665-6134.

EIS No. 20160235, Final, NMFS, MA, Amendment 18 to the Northeast Multispecies Fishery Management Plan, Review Period Ends: 11/14/2016, Contact: John Bullard 978-281-9343.

Amended Notices

EIS No. 20160236, Final, FAA, OR, ADOPTION—Military Readiness Activities at Naval Weapons System Training Facility Boardman, Contact: Paula Miller 202-267-7378.

The U.S. Department of Transportation's Federal Aviation Administration (FAA) has adopted the U.S. Navy's FEIS # 20150355, filed with the USEPA 12/28/2015. FAA was a cooperating agency on the project. Recirculation of the document is not necessary under Section 1506.3 of the CEQ Regulations.

Dated: October 11, 2016.
Karin Leff,
Acting Director, NEPA Compliance Division, Office of Federal Activities.

[FR Doc. 2016-24902 Filed 10-13-16; 8:45 am]

BILLING CODE 6560-50-P